DEPARTMENT OF ENERGY

Federal Energy Regulatory Commission

Combined Notice of Filings #1

Take notice that the Commission received the following electric corporate filings:

Docket Numbers: EC13-124-000.

Applicants: Cogentrix of Alamosa, LLC.

Description: Application for Authorization for Disposition of Jurisdictional Facilities and Request for Expedited Action of Cogentrix of Alamosa, LLC.

Filed Date: 7/2/13.

Accession Number: 20130702-5225.

Comments Due: 5 p.m. ET 7/23/13.

Take notice that the Commission received the following electric rate filings:

Docket Numbers: ER13-1438-002.

Applicants: Public Service Company of New Mexico.

Description: 2nd Revised SA 317 to be effective 6/1/2013.

Filed Date: 7/3/13.

Accession Number: 20130703-5054.

Comments Due: 5 p.m. ET 7/24/13.

Docket Numbers: ER13-1646-001.

Applicants: Electron Hydro, LLC.

Description: Amendment to Application for Market-Based Rate Authority to be effective 6/7/2013.

Filed Date: 7/2/13.

Accession Number: 20130702-5176.

Comments Due: 5 p.m. ET 7/23/13.

Docket Numbers: ER13-1886-000.

Applicants: PJM Interconnection, L.L.C., Old Dominion Electric Cooperative.

Description: ODEC & PJM submit a NITSA designated as PJM SA 3594 to be effective 9/1/2013.

Filed Date: 7/2/13.

Accession Number: 20130702-5205.

Comments Due: 5 p.m. ET 7/23/13.

Docket Numbers: ER13-1887-000.

Applicants: Pennsylvania Electric Company, PJM Interconnection, L.L.C.

Description: FirstEnergy and Penelec submit PJM SA No. 3596 among Penelec, CEI and FE Gen to be effective 7/1/2013.

Filed Date: 7/2/13.

Accession Number: 20130702-5208.

Comments Due: 5 p.m. ET 7/23/13.

Docket Numbers: ER13-1888-000.

Applicants: MP2 Energy IL LLC.

Description: Compliance Filing to be effective 7/3/2013.

Filed Date: 7/3/13.

Accession Number: 20130703-5001.

Comments Due: 5 p.m. ET 7/24/13.

Docket Numbers: ER13-1889-000.

Applicants: Midcontinent Independent System Operator, Inc.

Description: 07-03-2013 SA 2526 METC-Consumers GIA (J226-J231) to be effective 7/4/2013.

Filed Date: 7/3/13.

Accession Number: 20130703-5015.

Comments Due: 5 p.m. ET 7/24/13.

Docket Numbers: ER13-1890-000.

Applicants: Kentucky Utilities Company.

Description: ER07_457 Big Rivers Elec Corp Interconnection to be effective 9/3/2013.

Filed Date: 7/3/13.

Accession Number: 20130703-5038.

Comments Due: 5 p.m. ET 7/24/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2013.
Nathaniel J. Davis, Sr.,
Deputy Secretary.

[FR Doc. 2013-16640 Filed 7-10-13; 8:45 am]

BILLING CODE 6717-01-P